DEPARTMENT OF TRANSPORTATION

Federal Highway Administration

[Docket No. FHWA-2007-28524]

Notice of Request for Extension of Currently Approved Information Collection

AGENCY: Federal Highway Administration (FHWA), DOT.

ACTION: Notice and request for comments.

SUMMARY: The FHWA has forwarded the information collection request described in this notice to the Office of Management and Budget (OMB) to renew an information collection. We published a Federal Register Notice with a 60-day public comment period on this information collection on April 12, 2007. We are required to publish this notice in the Federal Register by the Paperwork Reduction Act of 1995.

DATES: Please submit comments by July 23, 2007.

ADDRESSES: You may send comments, within 30 days, to the Office of Information and Regulatory Affairs, Office of Management and Budget, 725 17th Street, NW., Washington, DC, 20503, or e-mail at oira_submission@omb.eop.gov, Attention: DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket number FHWA-2007-28524.

FOR FURTHER INFORMATION CONTACT: Kenneth Epstein, 202-366-2157, Federal Highway Administration, Department of Transportation, 1200 New Jersey Avenue, SE., Washington, DC 20590. Office hours are from 8 a.m. to 4:30 p.m., Monday through Friday, except Federal holidays.

SUPPLEMENTARY INFORMATION: Title: Drug Offender's Drivers License Suspension Certification.

OMB Control #: 2125-0579 (Expiration Date: September 30, 2007).

Background: States are legally required to enact and enforce laws that revoke or suspend the driver license of any individual convicted of a drug offense and to make annual certifications to the FHWA on their actions. The implementing regulations of the Department of Transportation and Related Agencies Appropriation Act, 1993 (Pub. L. 102-388, October 6, 1992) require annual certifications by the Governors. In this regard, the State must submit by January 1 of each year either a written certification, signed by the Governor, stating the State is in compliance with 23 U.S.C. 159; or a written certification stating the Governor is opposed to the enactment or enforcement, and the State legislature has adopted a resolution expressing its opposition to 23 U.S.C. 159.

Beginning in Fiscal Year 1996, States' failure to comply by October 1 of each fiscal year resulted in a withholding penalty of 10 percent from major categories of Federal-aid funds (i.e., National Highway System, Surface Transportation Program, and the Interstate Maintenance Program) from States' apportionments for the fiscal year. Any funds withheld in Fiscal Year 1996 and thereafter cannot be restored and will be redistributed.

This information collection supports the DOT Strategic Goal of Safety by promoting safety programs that continually improve highway safety by reducing the number of highway fatalities and injuries including large trucks and ensuring safe travel on highways.

Respondents: 50 States and the District of Columbia and Puerto Rico.

Estimated Annual Burden Hours: The average is 5 hours for each respondent which will require 260 total annual burden hours.

Authority: The Paperwork Reduction Act of 1995; 44 U.S.C. Chapter 35, as amended; and 49 CFR 1.48.

Issued on: June 18, 2007.
James R. Kabel,
Chief, Management Programs and Analysis Division.

[FR Doc. E7-12072 Filed 6-21-07; 8:45 am]

BILLING CODE 4910-22-P